DEPARTMENT OF THE INTERIOR

Bureau of Land Management

[LLORW00000.L51010000.ER0000.LVRWH09H0570.16XL5017AP, HAG 16-0131; WAOR65753]

Notice of Availability of the Final Environmental Impact Statement for the Proposed Vantage to Pomona Heights 230 kV Transmission Line Project in Benton, Grant, Kittitas, and Yakima Counties, Washington

AGENCY: Bureau of Land Management, Interior.

ACTION: Notice of availability.

SUMMARY: In accordance with the National Environmental Policy Act of 1969, as amended, the Bureau of Land Management (BLM) has prepared a Final Environmental Impact Statement (EIS) for the Vantage to Pomona Heights 230 kilovolt (kV) Transmission Line Project (Project) and, by this notice, is announcing its availability.

DATES: The BLM will not issue a final decision on the proposed Project for a minimum of 30 days following the date the Environmental Protection Agency publishes its Notice of Availability in the Federal Register.

ADDRESSES: Copies of the Final EIS have been sent to Federal, State, tribal and local governments, and public libraries in the Project area. The Final EIS and supporting documents are available electronically on the Project Web site at: http://www.blm.gov/or/districts/spokane/plans/vph230.php. Copies of the Final EIS are available for public inspection during normal business hours at the BLM office locations listed in the SUPPLEMENTARY INFORMATION section below.

FOR FURTHER INFORMATION CONTACT: Robin Estes, Vantage to Pomona Heights Final EIS Project Manager, at (541) 416-6728, by email at blm_or_vantage_pomona@blm.gov, or at the following address: BLM Spokane District Office, 1103 North Fancher Road, Spokane Valley, WA 99212-1275. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The project proponent, Pacific Power, filed Federal applications for rights-of-way (ROWs) with the BLM, the U.S. Department of the Army Joint Base Lewis-McChord Yakima Training Center (JBLM YTC), and the U.S. Bureau of Reclamation (Reclamation) for construction, operation, and maintenance of a 230 kV transmission line from Pacific Power's Pomona Heights Substation located east of Selah, Washington, in Yakima County, to the Bonneville Power Administration (BPA) Vantage Substation located just east of the Wanapum Dam in Grant County, Washington. The project proponent's interest in the new line is to reduce the risk of service interruptions and ensure continued reliable, efficient, and coordinated service to the Yakima Valley.

On January 4, 2013, the BLM released a Draft EIS for public review and comment. The Draft EIS analyzed nine alternative routes. As a result of the comments received at public meetings and submitted in writing during the Draft EIS comment period, the BLM, Pacific Power, and JBLM YTC met and identified a new alternative route, the New Northern Route (NNR) Alternative. This alternative, unlike the others analyzed in the Draft EIS is located largely on JBLM YTC land. As a result of the identification of this new alternative, the BLM determined that a Supplemental Draft EIS was required. On January 2, 2015, the BLM released the Supplemental Draft EIS for public review and comment. Both the Draft EIS and Supplemental Draft EIS fully described the alternatives and analyzed their direct, indirect, and cumulative impacts, as well as mitigation measures that could offset those potential impacts.

The BLM as the Lead Federal Agency is responsible for analyzing the effects of granting, granting with conditions, or denying Pacific Power's ROW applications submitted to the Federal agencies to construct, operate, and maintain a 230 kV transmission line, associated access roads, and other ancillary facilities. The JBLM YTC, Reclamation, BPA, Federal Highway Administration, U.S. Fish and Wildlife Service, Washington Department of Archaeology and Historic Preservation, Washington Department of Fish and Wildlife, Washington Department of Natural Resources (DNR), Washington State Department of Transportation (WSDOT), and Grant, Kittitas, and Yakima counties are Cooperating Agencies that assisted with the preparation of the Final EIS. Each of these Cooperating Agencies will subsequently make decisions related to the proposed Project within their respective jurisdictions.

Pacific Power proposes to use a variety of transmission line structures depending on the terrain. These structures were all analyzed in the Draft EIS, the Supplemental Draft EIS, and the Final EIS. Most of the proposed transmission line would be constructed on H-frame wood pole structures between 65 and 90 feet tall and spaced approximately 650 to 1,000 feet apart depending on terrain. In developed or agricultural areas, single wood or steel monopole structures would be used. The single pole structures would be between 80 and 110 feet tall and spaced approximately 400 to 700 feet apart. The ROW width for the H-frame structures and the single pole structures would be between 125 to 150 feet, and 75 to 100 feet, respectively. Steel lattice structures approximately 200 feet tall would be used to span the 2,800-foot Columbia River crossing.

The Final EIS addresses public comments received on both the Draft EIS and Supplemental Draft EIS, and considers the No Action Alternative and all nine of the action alternatives analyzed in the EIS documents. The nine action alternatives considered in the Final EIS range from 40.5 miles to 66.8 miles in length. The action alternatives cross private lands, Federal land managed by the BLM, JBLM YTC, and Reclamation, and state land managed by WSDOT and DNR. Yakima, Kittitas, Benton, and Grant counties are crossed by the action alternatives considered in the Final EIS. The information presented in the Draft EIS and the Supplemental Draft EIS has been combined in the Final EIS for clarity, and resource data and analyses have been updated as necessary in order to provide full disclosure of anticipated impacts for all action alternatives.

To provide maximum flexibility to the decision makers and incorporate all public review input from Cooperating Agencies and interested parties, all alternatives are available for consideration up to the issuance of decisions by the BLM and Cooperating Agencies. The BLM will document its decision in a Record of Decision (ROD). In the Final EIS, the Agency Preferred Alternative has been changed from Alternative D (presented in the Draft EIS and the Supplemental Draft EIS) to the New Northern Route (NNR) Alternative—Overhead Design Option. The NNR Alternative—Overhead Design Option has also been identified as the Environmentally Preferred Alternative. The change in Agency Preferred Alternative was based on the analysis contained in the Draft EIS and Supplemental Draft EIS, including information regarding economic, environmental, technical, and other factors; the preferences of the Cooperating Agencies and Tribal Representatives; and input received from the public via comments. The NNR Alternative would be 40.5 miles in length, located primarily on Federal land, and would parallel Pacific Power's existing Pomona-Wanapum 230 kV transmission line for the majority of its length. The NNR Alternative would cross JBLM YTC on its north side for over 70 percent of its total length, Reclamation land east of the Columbia River, and BLM-managed land in the Yakima River Canyon Management Area. The NNR Alternative would also cross WSDOT and Grant County PUD-managed lands and private lands, and would be located in Yakima, Kittitas, and Grant counties.

The EIS documents fully describe the alternatives and identify direct, indirect, and cumulative impacts as well as mitigation measures that could avoid, mitigate, or offset potential impacts. To minimize the amount and significance of the Project's impacts to Greater Sage-grouse, a Framework for Development of a Greater Sage-grouse Compensatory Mitigation Plan (Mitigation Framework) was developed to address the residual impacts (i.e., the unavoidable impacts) to the Greater Sage-grouse, which may result from the proposed construction, maintenance, and operation of the Project. The Mitigation Framework will provide the specific direction for Pacific Power's development of a Greater Sage-grouse Compensatory Mitigation Plan (CMP). With the development and implementation of the CMP, Pacific Power would take the necessary steps to compensate for the Project's residual impacts in order to achieve a net conservation gain for the species and its habitat. The Mitigation Framework is included as appendices in the Final EIS.

The BLM has consulted with the Federally recognized Confederated Tribes and Bands of the Yakama Nation and the Colville Confederated Tribes, and with the non-Federally recognized Wanapum Band of Indians. The BLM will continue to consult with Indian tribes on a government-to-government basis in accordance with Executive Order 13175 and other policies. Tribal concerns, including impacts to trust assets and potential impacts to cultural resources, have been given due consideration. The BLM also continues to work with the State and Federal agencies and consulting tribes regarding development of a Programmatic Agreement (PA) that outlines how the Federal agencies will comply with Section 106 of the National Historic Preservation Act for this undertaking. A draft of the PA is included as an appendix to the Final EIS. Federal, state, and local agencies, along with tribes and other stakeholders that may be interested in or affected by the proposed Project were invited to participate in the scoping process and comment on the Draft EIS and Supplemental Draft EIS. Major issues brought forward during the scoping process that were addressed in the Draft EIS and Supplemental Draft EIS and have been carried forward in the Final EIS include:

• Land use conflicts and effects on agricultural operations and property values;

• Effects on wildlife habitat, plants, and animals including threatened, endangered, and sensitive species (especially Greater Sage-grouse);

• Potential effects to JBLM YTC military training operations;

• Effects to visual resources and existing viewsheds;

• Effects to cultural resources and traditional cultural properties;

• Effects to soils and water from surface-disturbing activities;

• Social and economic effects;

• Management and control of invasive plant species; and

• Public health and safety.

Comments received on the Draft EIS and the Supplemental Draft EIS were considered, and document revisions were incorporated as appropriate into the Final EIS.

The BLM decision on the Project: The BLM will consider information contained in the Final EIS when deciding whether to grant, grant with modifications, or deny Pacific Power's Application for ROW across BLM-managed lands. The BLM's decision will be documented in its ROD.

Copies of the Final EIS are available for public inspection during normal business hours at the following BLM offices:

• Bureau of Land Management, Wenatchee Field Office, 915 Walla Walla Ave., Wenatchee, Washington; and

• Bureau of Land Management, Spokane District Office, 1103 N. Fancher Rd., Spokane Valley, Washington.

Authority: 40 CFR 1506.6, 40 CFR 1506.10

Linda Clark,
Spokane District Manager and Authorizing Officer.

[FR Doc. 2016-25404 Filed 10-20-16; 8:45 am]

BILLING CODE 4310-33-P